COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products and services to the Procurement List that will be furnished by nonprofit agencies employing persons who are blind or have other severe disabilities and to delete a product and services previously furnished by such agencies.

Comments Must be Received on or Before: 4/25/2011.

ADDRESSES: Committee for Purchase From People Who Are Blind or Severely Disabled, Jefferson Plaza 2, Suite 10800, 1421 Jefferson Davis Highway, Arlington, Virginia, 22202-3259.

For Further Information or to Submit Comments Contact: Patricia Briscoe, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products:

NSN: MR 350—Containers, Storage, 12PG.

NSN: MR 351—Containers, Storage, 20PG.

NSN: MR 1120—Bag, Storage, Vacuum Sealed, 6PG.

NPA: Industries for the Blind, Inc., West Allis, WI.

Contracting Activity: MILITARY RESALE-DEFENSE COMMISSARY AGENCY, FORT LEE, VA.

Coverage: C-List for the requirements of military commissaries and exchanges as aggregated by the Defense Commissary Agency.

Services:

Service Type/Location: Grounds Maintenance, Hannah Houses & adjacent property, 157-159 Conception Street, Mobile, AL.

NPA: GWI Services, Inc., Mobile, AL.

Contracting Activity: GENERAL SERVICES ADMINISTRATION/PUBLIC BUILDINGS SERVICE, PROPERTY MANAGEMENT CONTRACTS, ATLANTA, GA.

Service Type/Location: Mailroom Operation, IRS, 290 North D Street, San Bernardino, CA.

NPA: ServiceSource, Inc., Alexandria, VA (prime).

Pacific Coast Community Services, Richmond, CA (subcontractor).

Contracting Activity: DEPT OF TREAS/INTERNAL REVENUE SERVICE, IRS/CONTRACTS & ACQUISITION DIVISION NATIONAL OFFICE, WASHINGTON, DC.

Service Type/Locations: Mail Management Support Service, Official Mail Center Indian Head, 4072 N Jackson Road, Suite 101, Indian Head, MD.

NSA-PHILADELPHIA, Building 27D, 700 Robbins Avenue, Philadelphia, PA.

NSA—MECHANICSBURG, Building 112, 5450 Carlisle Pike, Mechanicsburg, PA.

Navy Mail Center Naval Air Station, 1155 Rosenbaum Ave, Meridian, MS.

NPA: NewView Oklahoma, Inc., Oklahoma City, OK.

Contracting Activity: DEPARTMENT OF THE NAVY, COMMANDER, FLEET AND INDUSTRIAL SUPPLY CENTER, SAN DIEGO, CA.

FISCN SMD NDW Postal Division Code 415.74, 2822 Doherty Drive, SW., Ste 1000, Joint Base Anacostia Bolling DC.

REGIONAL NAVY MAIL CENTER, FLEET & INDUSTRIAL SUPPLY CENTER NORFOLK, 9225 Third Avenue, Norfolk, VA.

NPAs: NewView Oklahoma, Inc., Oklahoma City, OK (prime).

ServiceSource, Inc., Alexandria, VA (subcontractor).

Contracting Activity: DEPARTMENT OF THE NAVY, COMMANDER, FLEET AND INDUSTRIAL SUPPLY CENTER, SAN DIEGO, CA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the product and services to the Government.

3. There are no known regulatory alternatives which would accomplish the objectives of the Javits-Wagner-O'Day Act (41 U.S.C. 46-48c) in connection with the product and services proposed for deletion from the Procurement List.

End of Certification

The following product and services are proposed for deletion from the Procurement List:

Product:

Cover Access.

NSN: 1560-00-870-1656.

NPA: The Lighthouse for the Blind, Inc. (Seattle Lighthouse), Seattle, WA.

Contracting Activity: DEFENSE LOGISTICS AGENCY AVIATION, RICHMOND, VA.

Services:

Service Type/Locations: Janitorial/Custodial.

U.S. Army Reserve Center: York, SC.

U.S. Army Reserve Center, 515 South Cherry Road, Rock Hill, SC.

NPA: York County Mental Retardation and Developmental Disabilities Board, Rock Hill, SC.

Contracting Activity: DEPT OF THE ARMY, XR W40M NATL REGION CONTRACT OFC, WASHINGTON, DC.

Patricia Briscoe,
Deputy Director, Business Operations.

[FR Doc. 2011-7093 Filed 3-24-11; 8:45 am]

BILLING CODE 6353-01-P